DEPARTMENT OF DEFENSE

Department of the Air Force

Record of Decision for the Airspace Optimization for Readiness at Mountain Home Air Force Base, Idaho Environmental Impact Statement

ACTION: Notice of availability of record of decision.

SUMMARY: On July 14, 2023, the Department of the Air Force (DAF) signed the Record of Decision (ROD) for the Airspace Optimization for Readiness at Mountain Home Air Force Base, Idaho, Environmental Impact Statement.

ADDRESSES: Mr. Austin Naranjo, 366th Fighter Wing Headquarters, Office of Public Affairs, 366 Gunfighter Ave., Building 512, Suite 2014, Mountain Home AFB ID, 83648, (208) 828-6800; austin.naranjo.1@us.af.mil.

SUPPLEMENTARY INFORMATION: The DAF has selected Alternative 1, 100-Foot Above Ground Level (AGL) floor for subsonic flight across all Military Operations Areas (MOA) and Alternative B, 10,000-Foot AGL Supersonic Floor across all MOAs. Based on this decision, the DAF will request the Federal Aviation Administration modify the subsonic low-altitude floors and supersonic altitude floors to be consistent across all the MOAs in the Mountain Home Special Use Airspace.

The DAF decision documented in the ROD was based on matters discussed in the Final Environmental Impact Statement, inputs from the public and regulatory agencies, and other relevant factors. The Final Environmental Impact Statement was made available to the public on March 3, 2023, through a Notice of Availability in the Federal Register (Volume 88, Number 42, Page 13443) with a waiting period that ended on April 3, 2023.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2023-16362 Filed 8-1-23; 8:45 am]

BILLING CODE 5001-10-P